NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: 10 CFR part 31, General Domestic Licenses for Byproduct Material.

2. Current OMB approval number: 3150-0016.

3. How often the collection is required: Reports are submitted as events occur. Registration certificates may be submitted at any time. Changes to the information on the registration certificate are submitted as they occur.

4. Who is required or asked to report: Persons receiving, possessing, using, or transferring byproduct material in certain items.

5. The number of annual respondents: Approximately 7,600 NRC general licensees and 22,800 Agreement State general licensees.

6. The number of hours needed annually to complete the requirement or request: 45,825 (10,393 hours for NRC licensees [1902 recordkeeping and 8491 reporting or an average of 0.6 hours per response] and 35,432 hours for Agreement State licensees [5705 recordkeeping and 29,727 reporting or an average of 0.5 hours per response].

7. Abstract: 10 CFR part 31 establishes general licenses for the possession and use of byproduct material in certain items and a general license for ownership of byproduct material. General licensees are required to keep records and submit reports identified in Part 31 in order for NRC to determine with reasonable assurance that devices are operated safely and without radiological hazard to users or the public.

Submit, by June 17, 2002, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room located at One White Flint North, 11555 Rockville Pike, Rockville, MD. OMB clearance requests are available at the NRC World Wide Web Site (http://www.nrc.gov/public-involve/doc-comment/omb/index.html). The document will be available on the NRC home page site for 60 days after the signature date of this notice.

Comments and questions about the information collection requirements may be directed to the NRC Clearance Officer, Brenda Jo. Shelton, U.S. Nuclear Regulatory Commission, T-6 E-6, Washington, DC, 20555-0001, or by telephone at 301-415-7233, or by Internet electronic mail at INFOCOLLECTS@NRC.GOV.

Dated at Rockville, Maryland, this 10th day of April, 2002.
For the Nuclear Regulatory Commission.
Beth C. St. Mary,
Acting NRC Clearance Officer, Office of the Chief Information Officer.

[FR Doc. 02-9188 Filed 4-15-02; 8:45 am]

BILLING CODE 7590-01-P